OFFICE OF THE UNITED STATES TRADE REPRESENTATIVE

Trade Policy Staff Committee: Seeking Comments From the Public on the 2005 WTO Ministerial Decision on Duty-Free Quota-Free Market Access for the Least Developed Countries

AGENCY: Office of the United States Trade Representative.

ACTION: Notice and request for comments.

SUMMARY: The Trade Policy Staff Committee (TPSC) is requesting the public to submit written comments on considerations relating to the Decision that Members adopted at the Sixth Ministerial Conference of the World Trade Organization (WTO) in December 2005 on duty-free, quota-free (DFQF) market access for the least-developed countries (LDCs). The TPSC is seeking comments from the public on to the full range of issues that may affect implementation of this Decision.

DATES: Comments are due by March 15, 2007.

ADDRESSES: Submissions by electronic mail: FR0704@USTR.EOP.GOV. Submissions by facsimile: Gloria Blue, Executive Secretary, Trade Policy Staff Committee, at (202) 395-6143. The public is strongly encouraged to submit documents electronically rather than by facsimile. (See requirements for submissions below.)

FOR FURTHER INFORMATION CONTACT: General inquiries should be made to the USTR Office of WTO and Multilateral Affairs at (202) 395-6843; calls on individual subjects will be transferred as appropriate. Procedural inquiries concerning the public comment process should be directed to Gloria Blue, Executive Secretary, Trade Policy Staff Committee, Office of the U.S. Trade Representative (USTR), (202) 395-3475. Further information on the WTO, including the declarations, decisions referred to in this notice, can be obtained via the Internet at the WTO Web site, http://www.wto.org, and/or the USTR Web site, http://www.ustr.gov. The 2005 President's Annual Report on the Trade Agreements Program, which is available on the USTR Web site, contains extensive information on the WTO, the Sixth WTO Ministerial Conference in Hong Kong, China, and the status of work in the WTO.

SUPPLEMENTARY INFORMATION: Duty-Free Quota-Free Market Access: The TPSC calls attention to the decision adopted at the Sixth Ministerial Conference of the WTO in December 2005 on duty-free, quota-free (DFQF) market access for LDCs. The DFQF decision is contained in Annex F of the Ministerial Declaration, which can be found at http://www.wto.org with the document symbol “WT/MIN(05)/DEC”. Ministers agreed that WTO Members would implement the DFQF initiative coincident with the implementation of the results of the negotiations under the Doha Development Agenda (DDA). On a voluntary basis, WTO Members may also implement sooner.

Implementation of the DFQF by relevant WTO Members is subject to review by Members through the WTO Committee on Trade and Development (CTD). On May 15, 2006, the United States submitted a paper to the CTD, “Duty-Free, Quota-Free Market Access for the Least-Developed Countries: Communication from the United States”. This paper can be found at http://www.wto.org with the document symbol “WT/COMTD/W/149”. The paper summarizes the U.S. legal and consultative process for implementing the DFQF decision, and outlines certain factors and related obligations affecting implementation. The TPSC recognizes that some factors related to implementation of DFQF can only be determined once certain results are obtained in the overall DDA negotiations. At this time, however, as part of consultative process, the TPSC is seeking comments from the public addressing the range of issues that may affect implementation in order to inform the planning process. The TPSC may seek further public comments on specific issues related to implementation of DFQF at a later time.

The U.S. International Trade Commission has provided to the TPSC the comments received from the public on agricultural and non-agricultural products as part of its investigation No. 332-440, Probable Economic Effects on Reduction or Elimination of U.S. Tariffs, August 9, 2002 (Confidential Report). Hence, these comments need not be resubmitted.

Written Submissions: Comments should state clearly the issue identified and should contain detailed information explaining why it is an issue and, to the extent possible, the means to address the issue. The provision of supplemental technical information is optional. This information should be provided in an attachment containing a spreadsheet or table in Microsoft Word, Word Perfect, Excel, Quatro Pro or MS Access.

Persons submitting comments may either send one copy by fax to Gloria Blue, Executive Secretary, Trade Policy Staff Committee, at (202) 395-6143 or transmit a copy electronically to FR0704@USTR.EOP.GOV, with “Duty-Free, Quota-Free” in the subject line. For documents sent by fax, USTR requests that the submitter provide a confirmation copy electronically. The public is strongly encouraged to submit documents electronically rather than by facsimile. USTR encourages the use of Adobe PDF format to submit attachments to an electronic mail. Interested persons who make submissions by electronic mail should not provide separate cover letters; information that might appear in a cover letter should be included in the submission itself. Similarly, to the extent possible, any attachments to the submission should be included in the same file as the submission itself, and not as separate files.

Comments should be submitted electronically no later than March 15, 2007.

Business confidential information will be subject to the requirements of 15 CFR 2003.6. Any business confidential material must be clearly marked as such and must be accompanied by a non-confidential summary thereof. A justification as to why the information contained in the submission should be treated confidentially should also be contained in the submission. In addition, any submissions containing business confidential information must clearly be marked “Business Confidential” at the top and bottom of the cover page (or letter) and each succeeding page of the submission. The version that does not contain business confidential information should also be clearly marked at the top and bottom of each page, “Public Version” or “Non-Confidential.”

Written comments submitted in connection with this request, except for information granted “business confidential” status pursuant to 15 CFR 2003.6 will be available for public inspection in the USTR Reading Room, Office of the United States Trade Representative. An appointment to review the file can be made by calling (202) 395-6186. The Reading Room is open to the public from 10 a.m. to 12 noon and from 1 p.m. to 4 p.m. Monday through Friday.

Dated: January 10, 2007.
Susan C. Schwab,
United States Trade Representative.

[FR Doc. 07-198 Filed 1-12-07; 4:38 pm]

BILLING CODE 3190-W7-P